DEPARTMENT OF DEFENSE

Office of the Secretary

[Docket No. DoD-2007-OS-0144]

Submission for OMB Review; Comment Request

ACTION: Notice.

The Department of Defense has submitted to OMB for clearance, the following proposal for collection of information under the provisions of the Paperwork Reduction Act (44 U.S.C. Chapter 35).

DATES: Consideration will be given to all comments received by September 29, 2008.

Title, Form, and OMB Number: Personnel Security Investigation Projection for Industry Survey; DSS Form 232; OMB Number 0704-0417.

Type of Request: Revision.

Number of Respondents: 12.150.

Responses per Respondent: 1.

Annual Responses: 12.150.

Average Burden per Response: 80 minutes.

Annual Burden Hours: 16,200.

Needs and Uses: The execution of the DSS Form 232 is an essential factor in projecting the needs of cleared contractor entities for personnel security investigations (PSIs). This collection of information requests the assistance of the Facility Security Officer to provide projections of the numbers and types of PSIs. The data will be incorporated into DSS's budget submissions and used to track against actual PSI submissions. The form will be distributed electronically via a web-based commercial survey tool.

Affected Public: Business or other for-profit; not-for-profit institutions.

Frequency: Annually.

Respondent's Obligation: Voluntary.

OMB Desk Officer: Ms. Sharon Mar.

Written comments and recommendations on the proposed information collection should be sent to Ms. Mar at the Office of Management and Budget, Desk Officer for DoD, Room 10236, New Executive Office Building, Washington, DC 20503. Comments may be e-mailed to Ms. Mar at Sharon_Mar@omb.eop.gov.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DOD Clearance Officer: Ms. Patricia Toppings.

Written requests for copies of the information collection proposal should be sent to Ms. Toppings at WHS/ESD/Information Management Division, 1777 North Kent Street, RPN, Suite 11000, Arlington, VA 22209-2133.

Dated: August 22, 2008.
Patricia L. Toppings,
Alternate OSD Federal Register Liaison Officer, Department of Defense.

[FR Doc. E8-20031 Filed 8-28-08; 8:45 am]

BILLING CODE 5001-06-P